FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
20050609 | Brown & Brown, Inc. | Richard F. Hull | Hull and Company (California), Inc. Hull & Co., General Agency, Inc. Hull & Company, Inc. Hull & Company (Louisiana), Inc. Hull & Company (Mid-America), Inc. Hull & Company (Mid-Atlantic), Inc. Hull & Company (Montana), Inc. Hull & Company (Pacific), Ltd. Hull & Company (Rocky Mountains), Inc.
20050621 | Perseus Market Opportunity Fund, L.P | Sports Capital Partners CEV, LLC | Maritime Telecommunications Network, Inc.
20050628 | Guitar Center, Inc. | Kenneth Moore O'Brien | Music and Arts Center, Inc.
20050633 | MLB Media Holdings, L.P | Tickets.com, Inc. | Tickets.com, Inc.
20050634 | Junichi Hayashi | Kattegat Trust | CBS Personnel Holdings, Inc.
20050638 | Craig J. Duchossois | AMX Corporation | AMX Corporation.
20050647 | Northrop Grumman Corporation | Robert LaRose | Integic Corporation.
TRANSACTIONS GRANTED EARLY TERMINATION—03/02/2005
20050619 | Jupitermedia Corporation | MCG Capital Corporation | Creatas, L.L.C. MCG Finance Corporation IH.
TRANSACTIONS GRANTED EARLY TERMINATION—03/03/2005
20050581 | Thermo Electron Corporation | SPX Corporation | Cryonix, Inc. Kendro Laboratory Products AG. Kendro Laboratory Products GmbH. Kendro Laboratory Products (GP) Inc. Kendro Laboratory Products (H.K.) Limited. Kendro Laboratory Products, L.P. Kendro Laboratory Products plc. Key Scientific, Inc. Medical Equipment Maintenance Company. Nippon Kendro KK.
20050617 | Exxel Capital Partners VI, L.P | Melvyn H. Miller | The Protective Group, Inc.
20050624 | ESP Pharma Holding Company, Inc. | Johnson & Johnson | Centocor, Inc.
20050625 | Protein Design Labs, Inc. | ESP Pharma Holding Company, Inc. | ESP Pharma Holding Company, Inc.
20050637 | Fujikura Ltd. | Alcoa, Inc. | Newco 1 & 2.
20050646 | The Coca-Cola Company | The Coco-Cola Company | CCDA Waters, LLC.
TRANSACTIONS GRANTED EARLY TERMINATION—03/04/2005
20050593 | Behrman Capital III L.P | Bea Maurer, Inc. | Bea Maurer, Inc.
20050616 | American Tire Distributors Holdings, Inc. | Charlesbank Equity Fund IV, L.P | American Tire Distributors, Inc.
20050631 | L-3 Communications Holdings, Inc. | Louis W. Blanco and Dorothy Blanco, husband & wife | Mobile-Vision, Inc.
20050635 | Arlington Capital Partners, L.P | Thermal Solutions, LLC | American Avionic Technologies Corporation. Brazonics, Inc. Performance Metal Fabricators, Inc. PMI Enterprises, Inc. Thermal Solutions, Inc. Thermal Solutions, LLC.
20050640 | SZ Investments, L.L.C. | Danielson Holding Corporation | Danielson Holding Corporation.
20050643 | Terrance D. and Judith A. Paul | AlphaSmart, Inc. | AlphaSmart, Inc.
20050645 | Landry's Restaurant, Inc. | Timothy N. Poster | Poster Financial Group, Inc.
20050652 | LIN TV Corp | Sumner N. Redstone | UPN Stations Group Inc.
20050664 | The New York Times Company | PRIMEDIA Inc. | About, Inc.
20050667 | Landry's Restaurant, Inc. | Thomas C. Breitling | Poster Financial Group, Inc.
TRANSACTIONS GRANTED EARLY TERMINATION—03/07/2005
20041398 | National-Oilwell, Inc. | Varco International, Inc. | Varco International, Inc.
20050162 | Gannett Co., Inc. | Phillip H. Power and Kathleen K. Power | Camden Publications, Inc. Community Newspapers, Inc. HomeTown Communications Network, Inc. HomeTown Newspapers, Inc. Kentucky Directory Company Michigan Directory Company Observer & Eccentric Newspapers, Inc. The Community Press, Inc. The Community Press of Northern Kentucky, Inc. The Mirror Newspapers, Inc.
20050675 | Fidelity Investors Limited Partnership VI | Banta Corporation | Banta Healthcare Group, Ltd. Banta Hong Kong, Ltd.
TRANSACTIONS GRANTED EARLY TERMINATION—03/08/2005
20050666 | Southern Wine & Spirits of America, Inc. | Mark Lauber | 24 Columbia Associates, LLC. 47 Readington Associates, LLC. Lauber Imports, Ltd., Inc. Wine Preservation Systems, LLC.
TRANSACTIONS GRANTED EARLY TERMINATION—03/09/2005
20050656 | MapleWood Equity Partners, LP | Jose A. Garcia | Tropical International Corp.
20050659 | William H. Gates III | Republic Services, Inc. | Republic Services, Inc.
TRANSACTIONS GRANTED EARLY TERMINATION—03/10/2005
20050603 | Citigroup, Inc. | Vollbrecht Family Investments, L.P. | Unit Parts Company.
20050650 | Robert C. Fanch | Conversent Communications, Inc. | Conversent Communications, Inc.
20050663 | Tomkins plc | Mellon Financial Corporation | Leland Holdings, LLC.
20050665 | Third Avenue Value Fund | Danielson Holding Corporation | Danielson Holding Corporation.

for further information contact: Sandra M. Peay, Contact Representative or Renee Hallman, Case Management Assistant. Federal Trade Commission, Premerger Notification Office, Bureau of Competition, Room H-303, Washington, DC 20580; (202) 326-3100.

By direction of the Commission.
Donald S. Clark,
Secretary.

[FR Doc. 05-5732 Filed 3-22-05; 8:45 am]

BILLING CODE 6750-01-M